DEPARTMENT OF TRANSPORTATION

Surface Transportation Board

[STB Finance Docket No. 34221]

Central Railroad Company of Indianapolis—Acquisition and Operation Exemption—Norfolk Southern Railway Company

Central Railroad Company of Indianapolis (CERA), a Class III rail carrier, has filed a verified notice of exemption under 49 CFR 1150.41 to acquire and operate approximately 31.66 miles of rail line owned by Norfolk Southern Railway Company (NSR).¹ The line to be acquired and operated runs between (1) Kokomo, IN, milepost I-51.8, and near Kokomo, milepost I-57.2, and (2) near West Marion Belt, IN, milepost TS-157.44, and Kokomo, milepost TS-183.7.² CERA certifies that its projected revenues as a result of this transaction will not result in the creation of a Class I or Class II rail carrier, and that its projected annual revenues will not exceed $5 million.

¹ CERA initially leased 121.82 miles of rail line in 1989 from Norfolk and Western Railway Company, the predecessor of NSR. However, since 1989, CERA has discontinued service over 90.16 miles of the rail line that it initially leased. CERA continued to operate over those portions of the leased line after each discontinuance, and currently operates over the 31.66 miles of rail line it seeks to acquire.

² On June 14, 2002, CERA concurrently filed a notice of exemption in STB Finance Docket No. 34212, Central Railroad Company of Indianapolis-Trackage Rights Exemption—Norfolk Southern Railway Company (STB served July 3, 2002), wherein NSR granted CERA approximately 5 miles of overhead and limited local trackage rights over a portion of NSR's tracks as follows: (1) from CERA's connection with NSR and the trackage of the West Marion Belt at Michael, IN, at milepost TS-157.44, to the connection between the West Marion Belt and the trackage of Winamac Southern Railroad Company adjacent to NSR-operated Goodman Yard at Marion, IN, and (2) from CERA's connection with NSR at milepost TS-157.44, through the switch serving Bell Fiber Corporation at milepost TS-155.6, to, and including the switch serving Essex Wire, Incorporated, at milepost TS-154.65.

The transaction was expected to be consummated on or after June 21, 2002, the effective date of the exemption (7 days after the notice was filed).

If the verified notice contains false or misleading information, the exemption is void ab initio. Petitions to revoke the exemption under 49 U.S.C. 10502(d) may be filed any time. The filing of a petition to revoke will not automatically stay the transaction.

An original and 10 copies of all pleadings, referring to STB Finance Docket No. 34221, must be filed with the Surface Transportation Board, 1925 K Street, NW., Washington, DC 20423-0001. In addition, a copy of each pleading must be served on Louis E. Gitomer, 1455 F Street, NW., Suite 225, Washington, DC 20005.

Board decisions and notices are available on our Web site at www.stb.dot.gov.

Decided: July 8, 2002.
By the Board, David M. Konschnik, Director, Office of Proceedings.
Vernon A. Williams,
Secretary.

[FR Doc. 02-17543 Filed 7-11-02; 8:45 am]

BILLING CODE 4915-00-P